DEPARTMENT OF TRANSPORTATION

Federal Aviation Administration

Notice of Opportunity for Public Comment on Airport Closure; Cleveland Hardwick Field (HDI), Cleveland, TN

AGENCY: Federal Aviation Administration (FAA), DOT.

ACTION: Notice of permanent closure of Cleveland Hardwick Field Airport (HDI) and release of land request.

SUMMARY: The Federal Aviation Administration (FAA) received written notice, dated January 8, 2014, from the City of Cleveland, Tennessee requesting the release of land and the permanent closure of Cleveland Hardwick Field (HDI). The notice was in excess of 30 days before the closure in accordance with 49 U.S.C. 46319(a). The FAA hereby publishes the intent of the City of Cleveland's notice of permanent closure of Cleveland Hardwick Field Airport in accordance with U.S.C. 46319(b).

DATES: Effective Date: The permanent closure date of the airport is effective as of March 14, 2014.

FOR FURTHER INFORMATION CONTACT: Stephen Wilson, Community Planner, Federal Aviation Administration, Memphis Airports District Office, 2600 Thousand Oaks Boulevard, Suite 2250, Memphis, Tennessee 38118, 901-322-8185.

SUPPLEMENTARY INFORMATION: On January 8, 2014, The City of Cleveland, Tennessee, sponsor of Cleveland Hardwick Field Airport (HDI), informed the FAA of its intent to finalize the closure. The airport sponsor wishes to complete the release of airport land by March 14, 2014. Cleveland Hardwick Field (HDI) located in Cleveland, Tennessee is a single runway, general aviation airport located in eastern Tennessee. Cleveland Hardwick Field is constrained by residential properties and several commercial establishments. The current runway length at HDI is 3,300 ft. and does not accommodate larger aircraft. The airport sponsor identified the need for a new airport facility with a 5,500 ft. runway able to accept larger category aircraft types. The City of Cleveland, Tennessee subsequently developed a replacement airport known as the Cleveland Regional Jetport (RZR) located approximately 5 miles from HDI. The closed facility, comprised of approximately 62 acres will be parceled and sold. All flight operations and tenants have been relocated to the newly opened Cleveland Regional Jetport (RZR).

Per U.S.C. 46319(a), a public agency may not permanently close an airport listed in the National Plan of Integrated Airports Systems (NPIAS) under section 47103 without providing notice to the Administrator of the Federal Aviation Administration at least 30 days before the date of closure. The FAA recognizes the letter dated January 8, 2014 from the City of Cleveland, Tennessee as meeting the 30 day requirement.

Questions may be directed to the individual named above under the heading, FOR FURTHER INFORMATION CONTACT.

Issued in Memphis, Tennessee on January 30, 2014.
Paul Friedman,
Assistant Manager, Memphis Airports District Office.

[FR Doc. 2014-02473 Filed 2-4-14; 8:45 am]

BILLING CODE 4910-13-P